DEPARTMENT OF AGRICULTURE

Natural Resources Conservation Service

Notice of Meeting of the Agricultural Air Quality Task Force

AGENCY: Natural Resources Conservation Service, USDA.

ACTION: Notice of meeting.

SUMMARY: The Agricultural Air Quality Task Force (AAQTF) will meet to continue discussions on critical air quality issues in relation to agriculture. Special emphasis will be placed on obtaining a greater understanding about the relationship between agricultural production and air quality. This will be the first meeting of the renewed Task Force and its newly appointed members.

DATES: The meeting will convene on Thursday, January 27, 2005, at 8 a.m. to 5 p.m.; resume Friday, January 28, 2005, from 8:15 a.m. to 4 p.m. Individuals with written materials, and those who have requests to make oral presentations, should contact the Natural Resources Conservation Service (NRCS) at the address below, on or before January 14, 2005.

ADDRESSES: The meeting will be held at the Hyatt Regency Crystal City Hotel, 2799 Jefferson Davis Highway, Arlington, Virginia; telephone (703) 418-1234. Written material and requests to make oral presentations should be sent to Elvis L. Graves, Acting Designated Federal Official, NRCS, 200 East Northwood Street, Suite 410, Greensboro, North Carolina 27401.

FOR FURTHER INFORMATION CONTACT: Questions or comments should be directed to Elvis L. Graves, Acting Designated Federal Official; telephone: (336) 370-3331, extension 421; fax: (336) 370-3376; e-mail: elvis.graves@gnb.usda.gov.

SUPPLEMENTARY INFORMATION: Notice of this meeting is given under the Federal Advisory Committee Act, 5 U.S.C. App. 2. Additional information concerning the AAQTF, may be found on the World Wide Web at http://aaqtf.tamu.edu/.

Draft Agenda of the January 27-28, 2005, Meeting of the AAQTF

A. Welcome to Washington, DC

1. USDA and NRCS officials

B. Discussion of Minutes from Meeting of Previous Task Force

C. Update of Task Force Responsibilities:

1. Federal Advisory Committee Act (FACA)

2. Charter

D. Accomplishments of Previous Task Force (Subcommittee Presentations)

1. Emerging Issues Committee Report

2. Research Committee Report

3. Policy Committee Report

4. Education/Technology Transfer Committee Report

E. Federal Agency Presentations

1. Natural Resources Conservation Service

2. Agricultural Research Service

3. Cooperative State Research, Education, and Extension Service

4. Forest Service

5. Environmental Protection Agency

F. Establishing AAQTF Priorities for the Task Force

G. Next Meeting, Time and Place

H. Public Input

(Time will be reserved before lunch and at the close of each daily session to receive public comment. Individual presentations will be limited to 5 minutes).

Procedural

This meeting is open to the public. At the discretion of the Chair, members of the public may give oral presentations during the meeting. Persons wishing to make oral presentations should notify Mr. Graves no later than January 14, 2005. If a person submitting material would like a copy distributed to each member of the committee in advance of the meeting, that person should submit 30 copies to Mr. Graves no later than January 14, 2005.

Information on Services for Individuals With Disabilities

For information on facilities or services for individuals with disabilities, or to request special assistance at the meeting, contact Mr. Graves. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (braille, large print, audio tape, etc.) should contact the USDA's Target Center at (202) 720-2000 (voice and TDD). USDA is an equal opportunity provider and employer.

Signed in Washington, DC on December 21, 2004.
Bruce I. Knight,
Chief, Natural Resources Conservation Service.

[FR Doc. 05-268 Filed 1-5-05; 8:45 am]

BILLING CODE 3410-16-P